INTERNATIONAL TRADE COMMISSION

[Inv. No. 337-TA-422]

In the Matter of Certain Two-Handle Centerset Faucets and Escutcheons, and Components Thereof; Notice of Issuance of General Exclusion Order; Termination of the Investigation

AGENCY: International Trade Commission.

ACTION: Notice.

SUMMARY: Notice is hereby given that the U.S. International Trade Commission, having previously determined not to review the final initial determination (ID) issued by the presiding administrative law judge (ALJ) finding a violation of section 337 of the Tariff Act of 1930, 19 U.S.C. 1337, in the above-captioned investigation, has issued a general exclusion order, and terminated the investigation.

FOR FURTHER INFORMATION CONTACT: Michael Diehl, Esq., Office of the General Counsel, U.S. International Trade Commission, telephone 202-205-3095. General information concerning the Commission may also be obtained by accessing its Internet server (http://www.usitc.gov). Hearing-impaired persons are advised that information on the matter can be obtained by contacting the Commission's TDD terminal on 202-205-1810.

SUPPLEMENTARY INFORMATION: This investigation was instituted on June 17, 2000, based on a complaint by Moen Incorporated of Ohio. 64 FR 32522. Moen's complaint alleged unfair acts in violation of section 337 in the importation and sale of certain two-handle centerset faucets and escutcheons, and components thereof. The complaint alleged that five respondents had infringed a U.S. design patent held by complainant Moen. The five respondents named in the investigation were Foremost International Trading, Inc. of East Hanover, New Jersey (Foremost); Chung Cheng Faucet Co. Ltd. of Taiwan (Chung Cheng); Hometek International Group of Illinois (Hometek); Stuhlbarg International Sales Company Inc. d.b.a. Sisco, Inc. of Rancho Dominguez, California (Sisco); and Lota International Co. Ltd. of the People's Republic of China (Lota).

On October 6, 1999, the Commission determined not to review an ID terminating the investigation as to Hometek on the basis of a consent order. On December 29, 1999, the Commission issued a notice that an ID granting complainant's motion for partial summary determination that it had satisfied the economic prong of the domestic industry requirement had become the determination of the Commission. An evidentiary hearing before the ALJ was held December 13-15, 1999, with complainant, respondents Foremost and Chung Cheng, and the Commission investigative attorney (IA) participating. On February 1, 2000, the Commission determined not to review an ID terminating the investigation as to respondents Sisco and Lota on the basis of consent orders.

On March 17, 2000, the ALJ issued his final ID, finding a violation of section 337 by Foremost and Chung Cheng, the two remaining respondents. The ALJ also issued his recommendations on remedy and bonding. The ALJ recommended that the Commission issue a general exclusion order directing that faucets that infringe the ‘466 patent be excluded from entry into the United States. He also recommended a 264 percent bond during the period of Presidential review.

No party filed a petition for review of the ID.

After examining the record in the investigation, the Commission determined not to review the ID, and requested written submissions on remedy, the public interest, and bonding.

The Commission received written submissions from Moen and the IA that addressed the form of remedy, if any, that should be ordered, the effect of a remedy on the public interest, and the amount of the bond that should be imposed during the 60-day Presidential review period.

Having reviewed the record in this investigation, including the written submissions of the parties, the Commission determined that the appropriate form of relief is a general exclusion order prohibiting the unlicensed entry for consumption of two-handle centerset faucets and escutcheons that infringe U.S. Letters Patent Des. 347,466. The Commission also determined that the public interest factors enumerated in subsection (d) of section 337 do not preclude the issuance of the aforementioned general exclusion order, and that the bond during the Presidential review period shall be in the amount of 264 percent of the entered value of the articles in question.

Copies of the Commission's orders, the public version of the ID, and all other nonconfidential documents filed in connection with this investigation, are or will be available for inspection during official business hours (8:45 a.m. to 5:15 p.m.) in the Office of the Secretary, U.S. International Trade Commission, 500 E Street SW., Washington, DC 20436, telephone 202-205-2000.

This action is taken under the authority of section 337 of the Tariff Act of 1930, 19 U.S.C. 1337, and sections 210.45-210.51 of the Commission's Rules of Practice and Procedure, 19 CFR 210.45-210.51.

Issued: June 19, 2000.
By order of the Commission.
Donna R. Koehnke,
Secretary.

[FR Doc. 00-15820 Filed 6-21-00; 8:45 am]

BILLING CODE 7020-02-P